TENNESSEE VALLEY AUTHORITY

18 CFR Part 1301

Revision of Tennessee Valley Authority Freedom of Information Act Regulations

AGENCY: Tennessee Valley Authority (TVA).

ACTION: Final rule.

SUMMARY: The Tennessee Valley Authority is amending its Freedom of Information Act (FOIA) regulations to reflect a change in the procedure for obtaining paper copies of documents located in TVA's electronic reading room.

EFFECTIVE DATE: May 27, 2003.

FOR FURTHER INFORMATION CONTACT: Denise Smith, FOIA Officer, Tennessee Valley Authority, 400 W. Summit Hill Drive (ET 5D), Knoxville, Tennessee 37902-1499, telephone number (865) 632-6945.

SUPPLEMENTARY INFORMATION: This rule was not published in proposed form since it relates to agency procedure and practice. Since this rule is nonsubstantive, it is being made effective May 27, 2003.

List of Subjects in 18 CFR Part 1301

Freedom of Information, Government in the Sunshine, Privacy.

For the reasons stated in the preamble, TVA amends 18 CFR part 1301 as follows:

PART 1301—PROCEDURES

1. The authority citation for part 1301, subpart A, continues to read as follows:

Authority: 16 U.S.C. 831-831ee, 5 U.S.C. 552.

2. Revise § 1301.2 to read as follows:

§ 1301.2 Public reading rooms.

TVA maintains a public electronic reading room through its Web site at http://www.tva.gov. This electronic reading room contains the records that the FOIA requires to be made regularly available for public inspection and copying. Paper copies of documents accessible through TVA's reading room are available upon request from the TVA Research Library at 400 W. Summit Hill Drive, Knoxville, Tennessee 37902-1499, and 1101 Market Street, Chattanooga, Tennessee 37402-2801. Each TVA organization is responsible for determining which of the records it generates are required to be made available in this way and for ensuring that those records are available in TVA's reading room. TVA's FOIA Officer will maintain a current subject-matter index of TVA's reading room records.The index is identified as the Reading Room Table of Contents on TVA's Web site and will be updated regularly, at least quarterly, with respect to newly included records.

Tracy S. Williams,
Vice President, External Communications, Tennessee Valley Authority.

[FR Doc. 03-13093 Filed 5-23-03; 8:45 am]

BILLING CODE 8120-08-M